DEPARTMENT OF TRANSPORTATION

Surface Transportation Board

[Docket No. FD 35375]

CSX Transportation, Inc.—Corporate Family Merger Exemption—Gainesville Midland Railroad Company

CSX Transportation, Inc. (CSXT) and Gainesville Midland Railroad Company (GMRR) have jointly filed a verified notice of exemption under 49 CFR 1180.2(d)(3) for a corporate family transaction. CSXT is a Class I rail carrier that directly controls and operates GMRR.¹ GMRR is a wholly owned subsidiary of CSXT. The transaction involves the merger of GMRR with and into CSXT with CSXT being the surviving corporation.

¹ See CSX Corp.—Control—Chessie and Seaboard C. L. I., 363 I.C.C. 521 (1980) and Seaboard Air-Line R.R.—Control—Gainesville Midland R.R., FD 20296 (ICC decided Mar. 26, 1959), 307 I.C.C. 801, 803.

The transaction is scheduled to be consummated on or after August 20, 2010. The purpose of the transaction is to simplify the corporate structure and reduce overhead costs and duplication by eliminating one corporation while retaining the same assets to serve customers. CSXT will obtain certain other savings as a result of this transaction.

This is a transaction within a corporate family of the type specifically exempted from prior review and approval under 49 CFR 1180.2(d)(3). The parties state that the transaction will not result in adverse changes in service levels, significant operational changes, or any change in the competitive balance with carriers outside the corporate family.

Under 49 U.S.C. 10502(g), the Board may not use its exemption authority to relieve a rail carrier of its statutory obligation to protect the interests of its employees. As a condition to the use of this exemption, any employees adversely affected by this transaction will be protected by the conditions set forth in New York Dock Railways.—Control—Brooklyn Eastern District Terminal, 360 I.C.C. 60 (1979).

If the notice contains false or misleading information, the exemption is void ab initio. Petitions to revoke the exemption under 49 U.S.C. 10502(d) may be filed at any time. The filing of a petition to revoke will not automatically stay the transaction. Petitions for stay must be filed no later than August 13, 2010 (at least 7 days before the exemption becomes effective).

An original and 10 copies of all pleadings, referring to FD No. 35375, must be filed with the Surface Transportation Board, 395 E Street, NW., Washington, DC 20423-0001. In addition, one copy of each pleading must be served on Louis E. Gitomer, Esq., Law Offices of Louis E. Gitomer, 600 Baltimore Avenue, Suite 301, Towson, Md. 21204.

Board decisions and notices are available on our Web site at http://www.stb.dot.gov.

Decided: July 29, 2010.
By the Board, Rachel D. Campbell, Director, Office of Proceedings.
Kulunie L. Cannon,
Clearance Clerk.

[FR Doc. 2010-19122 Filed 8-3-10; 8:45 am]

BILLING CODE 4915-01-P